DEPARTMENT OF ENERGY

Federal Energy Regulatory Commission

Combined Notice of Filings

Take notice that the Commission has received the following Natural Gas Pipeline Rate and Refund Report filings:

Filings Instituting Proceedings

Docket Numbers: RP17-283-000.

Applicants: Transcontinental Gas Pipe Line Company.

Description: Transcontinental Gas Pipe Line Company, LLC submits tariff filing per 154.204: DPEs—WGL to be effective 1/21/2017.

Filed Date: 12/21/16.

Accession Number: 20161221-5248.

Comments Due: 5 p.m. ET 1/3/17.

Docket Numbers: RP17-284-000.

Applicants: Dauphin Island Gathering Partners.

Description: Dauphin Island Gathering Partners submits tariff filing per 154.204: Negotiated Rate Filing 12-21-2016 to be effective 1/1/2017.

Filed Date: 12/21/16.

Accession Number: 20161221-5267.

Comments Due: 5 p.m. ET 1/3/17.

Docket Numbers: RP17-285-000.

Applicants: Rockies Express Pipeline LLC.

Description: Rockies Express Pipeline LLC submits tariff filing per 154.204: 2016-12-21 Electric to PCT to be effective 1/22/2017.

Filed Date: 12/21/16.

Accession Number: 20161221-5337.

Comments Due: 5 p.m. ET 1/3/17.

Docket Numbers: RP17-286-000.

Applicants: Algonquin Gas Transmission, LLC.

Description: Algonquin Gas Transmission, LLC submits tariff filing per 154.204: AIM Non-Conforming Agreements and Negotiated Rates to be effective 1/4/2017.

Filed Date: 12/21/16.

Accession Number: 20161221-5372.

Comments Due: 5 p.m. ET 1/3/17.

Docket Numbers: RP13-316-000.

Applicants: Tallgrass Interstate Gas Transmission, LLC.

Description: Tallgrass Interstate Gas Transmission, LLC submits tariff filing per 154.501: TIGT 2016 Reconcilation Filing to be effective N/A.

Filed Date: 12/22/16.

Accession Number: 20161222-5143.

Comments Due: 5 p.m. ET 1/3/17.

Docket Numbers: RP17-287-000.

Applicants: Natural Gas Pipeline Company of America.

Description: Natural Gas Pipeline Company of America LLC submits tariff filing per 154.204: Tenaska Marketing Ventures Negotiated Rate to be effective 1/1/2017.

Filed Date: 12/22/16.

Accession Number: 20161222-5074.

Comments Due: 5 p.m. ET 1/3/17.

Docket Numbers: RP17-288-000.

Applicants: USG Pipeline Company, LLC.

Description: USG Pipeline Company, LLC submits tariff filing per 154.204: Housekeeping Tariff Revisions to be effective 1/22/2017.

Filed Date: 12/22/16.

Accession Number: 20161222-5350.

Comments Due: 5 p.m. ET 1/3/17.

Docket Numbers: RP17-289-000.

Applicants: Texas Eastern Transmission, LP.

Description: Texas Eastern Transmission, LP submits tariff filing per 154.204: Chevron k911109 Releases to ConocoPhillips for 1-1-2017 to be effective 1/1/2017.

Filed Date: 12/23/16.

Accession Number: 20161223-5048.

Comments Due: 5 p.m. ET 1/4/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2016.
Nathaniel J. Davis, Sr.,
Deputy Secretary.

[FR Doc. 2017-01919 Filed 1-27-17; 8:45 am]

BILLING CODE 6717-01-P